NUCLEAR REGULATORY COMMISSION

[NRC-2012-0139]

Withdrawal of Regulatory Guide 7.3; Procedures for Picking Up and Receiving Packages of Radioactive Material

AGENCY: Nuclear Regulatory Commission.

ACTION: Notice of withdrawal; correction.

SUMMARY: This document is correcting the document published in the Federal Register on June 15, 2012 (77 FR 36017). Today's document supersedes that document and republishes it in its entirety with corrections. This document, by way of explanation, is including previously omitted text that establishes a better rationale for withdrawing the regulatory guide (RG). The U.S. Nuclear Regulatory Commission (NRC or Commission) is withdrawing RG 7.3, “Procedures for Picking Up and Receiving Packages of Radioactive Material.” The RG is being withdrawn because it is outdated and the relevant information contained in it has been updated and incorporated into Revision 1 of RG 7.7, “Administrative Guide for Verifying Compliance with Packaging Requirements for Shipment and Receipt of Radioactive Material,” which was issued in March 28, 2012 (77 FR 18871).

ADDRESSES: Please refer to Docket ID NRC-2012-0139 when contacting the NRC about the availability of information on this document. You may access information related to this document, which the NRC possesses and are publicly available, using any of the following methods:

• Federal Rulemaking Web site: Go to http://www.regulations.gov and search for Docket ID NRC-2012-0139. Address questions about NRC dockets to Carol Gallagher; telephone: 301-492-3668; email: Carol.Gallagher@nrc.gov.

• NRC's Agencywide Documents Access and Management System (ADAMS): Publicly available documents created or received at the NRC are available online in the NRC Library at http://www.nrc.gov/reading-rm/adams.html. To begin search, select “ADAMS Public Documents” and then select “Begin Web-based ADAMS Search.” For problems with ADAMS, please contact the NRC's Public Document Room (PDR) reference staff at 1-800-397-4209, or 301-415-4737, or by email at PDR.Resource@nrc.gov. The ADAMS accession number for each document referenced in this document (if that document is available in ADAMS) is provided the first time that a document is referenced. The review for the withdrawal of RG 7.3 is available in ADAMS under Accession No. ML120900195.

• NRC's PDR: You may examine and purchase copies of public documents at the NRC's PDR, Room O1-F21, One White Flint North, 11555 Rockville Pike, Rockville, MD 20852.

The documents are not copyrighted and NRC approval is not required to reproduce them.

FOR FURTHER INFORMATION CONTACT: Bernard White, Office of Nuclear Material Safety and Safeguards, Division of Spent Fuel Storage and Transportation, U.S. Nuclear Regulatory Commission, Washington DC 20555-0001, telephone: 301-492-3303; email: Bernard.White@nrc.gov.

SUPPLEMENTARY INFORMATION:

I. Introduction

The NRC is withdrawing RG 7.3 because its guidance has been superseded and is no longer needed. The RG was published in May 1975 to provide guidance on meeting the requirements in Title 10 of the Code of Federal Regulations (10 CFR) 20.205, “Procedures for Picking Up, Receiving, and Opening Packages.” Regulatory Guide 7.3 provided guidance to licensees on making arrangements for receipt, pickup, and monitoring of packages containing radioactive material; and reporting when received packages showed evidence of leakage or excessive radiation levels.

Regulatory Guide 7.3 was issued after a rulemaking by the Atomic Energy Commission in 1974 that revised 10 CFR part 20, “Standards for Protection Against Radiation.” This rulemaking was in response to two incidents resulting in excessive contamination and radiation exposures from improperly packaged radioactive material. Since these requirements were new to the transportation community, the Atomic Energy Commission developed RG 7.3 to provide licensees with a method acceptable to the NRC staff for meeting the new requirements. In the 37 years since RG 7.3 was issued, there has been extensive experience by the transportation community on receiving and opening packages and the regulations in 10 CFR 20.205 have been replaced with new U.S. Department of Transportation regulations and 10 CFR 20.1906, “Procedures for Receiving and Opening Packages.” Regulatory Guide 7.3 was not kept current. The NRC is withdrawing the RG because it is outdated and the relevant information contained in it has been updated and incorporated into Revision 1 of RG 7.7, “Administrative Guide for Verifying Compliance with Packaging Requirements for Shipment and Receipt of Radioactive material.” Revision 1 of RG 7.7 was finalized in March 2012, a notice of its issuance was published in the Federal Register on March 28, 2012 (77 FR 18871).

II. Further Information

As explained above, the guidance provided in this RG is no longer necessary. Regulatory guides may be withdrawn when their guidance no longer provides useful information, such as when the guidance is superseded by technological developments, congressional actions, or other events.

Withdrawal of a RG means that the NRC staff no longer approves, as a generic matter, the guidance in the withdrawn RG. Therefore, an applicant or licensee who wishes to follow the guidance bears the responsibility of demonstrating in the appropriate circumstance, that the guidance in the withdrawn RG is applicable to the applicant's or licensee's specific situation. Current licensees who have included RG 7.3 in their licensing basis may continue to use it and withdrawal of the RG does not affect their existing licenses or agreements. Changes to existing licenses must be accomplished in accordance with applicable NRC requirements.

It states in NUREG/CR-4775, “Guide to Preparing Operating Procedures for Shipping Packages,” issued December 1988, that licensees should reference RG 7.3 in their operating procedures for shipping packages. Because RG 7.3 is being withdrawn, the recommendation in NUREG/CR-4775 to reference RG 7.3 should not be relied on in the future and an applicant or licensee who wishes to follow this portion of the guidance in NURGE/CR-4775 bears the responsibility of demonstrating, in the appropriate circumstance, that the guidance in the withdrawn regulatory guide is applicable to the applicant's or licensee's specific situation. Current licensees who have included RG 7.3 in their licensing basis because of the reference to it in NUREG/CR-4775 may continue to use RG 7.3, and withdrawal of the RG does not affect their existing licenses or agreements.

Regulatory guides and publicly available NRC documents are available on line in the NRC Library at: http://www.nrc.gov/reading-rm/doc-collections/. The documents can also be viewed online for free or printed for a fee in the NRC's PDR at 11555 Rockville Pike, Rockville, MD; the mailing address is USNRC PDR, Washington, DC 20555-0001; telephone: 301-415-4737, or 1-800-397-4209; fax 301-415-3548; or by email to pdr.resource@nrc.gov Regulatory guides are not copyrighted, and NRC approval is not required to reproduce them.

Dated at Rockville, Maryland, this 29th day of June 2012.
For the Nuclear Regulatory Commission.
Edward O'Donnell,
Acting Branch Chief, Regulatory Guide Development Branch, Division of Engineering, Office of Nuclear Regulatory Research.

[FR Doc. 2012-16661 Filed 7-6-12; 8:45 am]

BILLING CODE 7590-01-P